DEPARTMENT OF THE INTERIOR

Fish and Wildlife Service

[FWS-R6-R-2009-N0027];[60138-1265-6CCP-S3]

Final Comprehensive Conservation Plan for 12 National Wildlife Refuges in North Dakota

AGENCY: Fish and Wildlife Service, Interior.

ACTION: Notice of availability: final comprehensive conservation plan and finding of no significant impact for environmental assessment.

SUMMARY: We, the U.S. Fish and Wildlife Service (Service), announce that our final Comprehensive Conservation Plan (CCP) for 12 National Wildlife Refuges (Refuges) in the State of North Dakota is available. This final CCP describes how we intend to manage these particular Refuges in the State for the next 15 years.

ADDRESSES: To obtain a copy of the CCP, write to John Esperance, Division of Refuge Planning, U.S. Fish and Wildlife Service, 134 Union Boulevard, Suite 300, Lakewood, CO 80228; or download a copy from http://mountain-prairie.fws.gov/planning.

FOR FURTHER INFORMATION CONTACT: John Esperance, 303-236-4369 (phone); 303-236-4792 (fax); or John_Esperance@fws.gov (e-mail).

SUPPLEMENTARY INFORMATION: The 12 North Dakota Refuges this CCP covers are Audubon, Chase Lake, Kellys Slough, Lake Alice, Lake Ilo, Lake Nettie, Lake Zahl, McLean, Shell Lake, Stump Lake, Stewart Lake, and White Lake. These sites are located throughout the State of North Dakota.

All 12 Refuges were established under authority to provide breeding ground for migratory birds and other wildlife. These 12 Refuges conserve, restore, and enhance the ecological diversity of grasslands and wetlands of the North Dakota prairie to support healthy populations of ducks and geese, other migratory birds, and native species. Through this work, these 12 Refuges provide vital resting and breeding habitat.

We made available our draft CCP and environmental assessment to the public for a 30-day review and comment period by publishing a Federal Register notice on August 28, 2008 (73 FR 50834). The draft CCP/EA evaluated 3 alternatives for managing the 12 Refuges for the next 15 years.

The preferred alternative will provide for enhanced wetland and upland management, where warranted, on Refuge lands. Management objectives for various habitat types are based on habitat preferences of groups of target species, such as waterfowl, migratory shore birds, grassland bird species, and priority species. Refuge staff will focus on high-priority tracts and medium-priority tracts. The Refuge staff will implement compatible production enhancement techniques for targeted migratory bird populations. The Refuge staff will maintain existing environmental education and public use programs, with additional waterfowl emphasis. We propose, at a future date, a new environmental learning center for Audubon Refuge, and we are also planning interpretive panels for Lake Alice Refuge.

We selected the preferred alternative because it best meets the purposes and goals of the Refuge, as well as the mission and goals of the National Wildlife Refuge System. The preferred alternative will benefit migrating and nesting waterfowl, shore birds, migratory upland birds, and resident wildlife. Environmental education and partnerships will result in improved wildlife-dependent recreational opportunities. Cultural and historical resources as well as federally listed species will be protected.

We are furnishing this notice to advise other agencies and the public of the availability of the final CCP and Finding of No Significant Impact, to provide information on desired conditions for the Refuges, and to detail how we will implement management strategies. Based on the review and evaluation of the information contained in the environmental assessment, our Regional Director has determined that implementation of the final CCP does not constitute a major Federal action that would significantly affect the quality of the human environment within the meaning of Section 102(2)(c) of the National Environmental Policy Act. Therefore, an Environmental Impact Statement will not be prepared. Future site-specific proposals discussed in the final CCP will be addressed in separate planning efforts with full public involvement.

Dated: March 10, 2009.
Noreen E Walsh,
Deputy Regional Director.

[FR Doc. E9-11024 Filed 5-11-09; 8:45 am]

BILLING CODE 4310-55-P